DEPARTMENT OF COMMERCE

National Oceanic and Atmospheric Administration

[I.D. 022207E]

Marine Mammals; File No. 1120-1898

AGENCY: National Marine Fisheries Service (NMFS), National Oceanic and Atmospheric Administration (NOAA), Commerce.

ACTION: Notice; receipt of application.

SUMMARY: Notice is hereby given that Eye of the Whale (Olga von Ziegesar, Principal Investigator), P.O. Box 15191, Fitz Creek, AK 99603, has applied in due form for a permit to conduct research on humpback whales (Megaptera novaeangliae).

DATES: Written, telefaxed, or e-mail comments must be received on or before March 30, 2007.

ADDRESSES: The application and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1120-1898.

FOR FURTHER INFORMATION CONTACT: Amy Hapeman or Brandy Hutnak, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a five-year scientific research permit to continue a long-term census of humpback whales in Prince William Sound and adjacent waters of Alaska. Up to 2,250 takes for the close vessel approach, photo-identification and behavioral observation of whales is requested annually to determine the population size, distribution, recurrence of individuals, feeding habits, vital rates, associations between animals, and sex of individuals.

Concurrent with the publication of this notice in the Federal Register, NMFS is forwarding copies of this application to the Marine Mammal Commission and its Committee of Scientific Advisors.

Dated: February 23, 2007.
P. Michael Payne,
Chief, Permits, Conservation and Education Division, Office of Protected Resources, National Marine Fisheries Service.

[FR Doc. E7-3508 Filed 2-27-07; 8:45 am]

BILLING CODE 3510-22-S